DEPARTMENT OF JUSTICE

Antitrust Division

Notice Pursuant to the National Cooperative Research and Production Act of 1993—American Dental Association

Notice is hereby given that, on September 14, 2004, pursuant to Section 6(a) of the National Cooperative Research and Production Act of 1993, 15 U.S.C. 4301 et seq. (“the Act”), American Dental Association (“ADA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Dental Association, Chicago, IL. The nature and scope of ADA's standards development activities are: Development of nomenclature, standards and specifications for dental materials, except those recognized as drugs or dental radiographic film; development of nomenclature, standards and specifications for dental instruments, equipment and accessories used in dental practice, dental technology and oral hygiene that are offered to the public or the profession. Orthodontic, prosthetic, and restorative appliances designed or developed by the dentist for an individual patient are excluded. The ADA also promotes patient care and oral health through the application of information technology to dentistry's clinical and administrative operations, developing standards, specifications and technical reports, and guidelines for: Components of a computerized dental clinical workstation; electronic technologies used in dental practice; and interoperability standards for different software and hardware products which provide a seamless information exchange throughout all facets of healthcare.

Dorothy B. Fountain,
Deputy Director of Operations, Antitrust Division.

[FR Doc. 04-26212 Filed 11-26-04; 8:45 am]

BILLING CODE 4410-11-M